DEPARTMENT OF ENERGY

Federal Energy Regulatory Commission

Combined Notice of Filings #1

Take notice that the Commission received the following electric corporate filings:

Docket Numbers: EC14-124-000.

Applicants: Integrys Energy Group, Inc., Integrys Energy Services, Inc., Integrys Energy Services of New York, Inc., Exelon Generation Company, LLC.

Description: Joint Application for Authorization under Section 203 of the FPA and Requests for Confidential Treatment and Waivers of Exelon Generation Company, LLC, Integrys Energy Group, Inc., et al.

Filed Date: 8/12/14.

Accession Number: 20140812-5139.

Comments Due: 5 p.m. ET 9/2/14.

Take notice that the Commission received the following exempt wholesale generator filings:

Docket Numbers: EG14-84-000.

Applicants: Major Oak Power, LLC.

Description: Notice of Self-Certification of Exempt Wholesale Generator Status of Major Oak Power, LLC.

Filed Date: 8/13/14.

Accession Number: 20140813-5111.

Comments Due: 5 p.m. ET 9/3/14.

Take notice that the Commission received the following electric rate filings:

Docket Numbers: ER12-2273-001.

Applicants: Public Service Company of Colorado.

Description: 2014-8-13_Att U_U-1_Svc Agmt-IA-NSP 0.0.1-Filing to be effective 8/1/2014.

Filed Date: 8/13/14.

Accession Number: 20140813-5079.

Comments Due: 5 p.m. ET 9/3/14.

Docket Numbers: ER14-2286-001.

Applicants: Midcontinent Independent System Operator, Inc.

Description: 2014-08-13_ATC D-T IAs Update Batch 2 Amendment to be effective 8/27/2014.

Filed Date: 8/13/14.

Accession Number: 20140813-5108.

Comments Due: 5 p.m. ET 9/3/14.

Docket Numbers: ER14-2293-001.

Applicants: DTE Electric Company.

Description: Cancel PLD Wholesale Distribution Agreement to be effective 7/1/2014.

Filed Date: 8/13/14.

Accession Number: 20140813-5131.

Comments Due: 5 p.m. ET 9/3/14.

Docket Numbers: ER14-2639-000.

Applicants: Sirius Investment Management, Inc.

Description: Notice of cancellation of its market-based rate tariff etc.

Filed Date: 8/11/14.

Accession Number: 20140812-0001.

Comments Due: 5 p.m. ET 9/2/14.

Docket Numbers: ER14-2640-000.

Applicants: Lake Erie CleanPower Connector.

Description: Request for Order Confirming Negotiated Rate Authority of ITC Lake Erie Connector.

Filed Date: 8/13/14.

Accession Number: 20140813-5037.

Comments Due: 5 p.m. ET 9/3/14.

Docket Numbers: ER14-2641-000.

Applicants: Electric Energy, Inc.

Description: Revised Market-Based Rate Tariff to be effective 8/14/2014.

Filed Date: 8/13/14.

Accession Number: 20140813-5084.

Comments Due: 5 p.m. ET 9/3/14.

Docket Numbers: ER14-2642-000.

Applicants: Dynegy Oakland, LLC.

Description: Revised Market-Based Rate Tariff to be effective 8/14/2014.

Filed Date: 8/13/14.

Accession Number: 20140813-5085.

Comments Due: 5 p.m. ET 9/3/14.

Docket Numbers: ER14-2643-000.

Applicants: Dynegy Energy Services, LLC.

Description: Revised Market-Based Rate Tariff to be effective 8/14/2014.

Filed Date: 8/13/14.

Accession Number: 20140813-5086.

Comments Due: 5 p.m. ET 9/3/14.

Docket Numbers: ER14-2644-000.

Applicants: Dynegy Midwest Generation, LLC.

Description: Revised Market-Based Rate Tariff to be effective 8/14/2014.

Filed Date: 8/13/14.

Accession Number: 20140813-5087.

Comments Due: 5 p.m. ET 9/3/14.

Docket Numbers: ER14-2645-000.

Applicants: Dynegy Kendall Energy, LLC.

Description: Revised Market-Based Rate Tariff to be effective 8/14/2014.

Filed Date: 8/13/14.

Accession Number: 20140813-5088.

Comments Due: 5 p.m. ET 9/3/14.

Docket Numbers: ER14-2646-000.

Applicants: Casco Bay Energy Company, LLC.

Description: Revised Market-Based Rate Tariff to be effective 8/14/2014.

Filed Date: 8/13/14.

Accession Number: 20140813-5089.

Comments Due: 5 p.m. ET 9/3/14.

Docket Numbers: ER14-2647-000.

Applicants: Dynegy Power Marketing, LLC.

Description: Revised Market-Based Rate Tariff to be effective 8/14/2014.

Filed Date: 8/13/14.

Accession Number: 20140813-5090.

Comments Due: 5 p.m. ET 9/3/14.

Docket Numbers: ER14-2648-000.

Applicants: Dynegy Moss Landing, LLC.

Description: Revised Market-Based Rate Tariff to be effective 8/14/2014.

Filed Date: 8/13/14.

Accession Number: 20140813-5091.

Comments Due: 5 p.m. ET 9/3/14.

Docket Numbers: ER14-2649-000.

Applicants: Illinois Power Resources Generating, LLC.

Description: Revised Market-Based Rate Tariff to be effective 8/14/2014.

Filed Date: 8/13/14.

Accession Number: 20140813-5092.

Comments Due: 5 p.m. ET 9/3/14.

Docket Numbers: ER14-2650-000.

Applicants: Dynegy Marketing and Trade, LLC.

Description: Revised Market-Based Rate Tariff to be effective 8/14/2014.

Filed Date: 8/13/14.

Accession Number: 20140813-5093.

Comments Due: 5 p.m. ET 9/3/14.

Docket Numbers: ER14-2651-000.

Applicants: Ontelaunee Power Operating Company, LLC.

Description: Revised Market-Based Rate Tariff to be effective 8/14/2014.

Filed Date: 8/13/14.

Accession Number: 20140813-5094.

Comments Due: 5 p.m. ET 9/3/14.

Docket Numbers: ER14-2652-000.

Applicants: Sithe/Independence Power Partners, L.P.

Description: Revised Market-Based Rate Tariff to be effective 8/14/2014.

Filed Date: 8/13/14.

Accession Number: 20140813-5095.

Comments Due: 5 p.m. ET 9/3/14.

Docket Numbers: ER14-2653-000.

Applicants: PacifiCorp.

Description: WAPA 2436 Agreement for Interconnections & Transmission Service to be effective 10/13/2014.

Filed Date: 8/13/14.

Accession Number: 20140813-5098.

Comments Due: 5 p.m. ET 9/3/14.

Docket Numbers: ER14-2654-000.

Applicants: Midcontinent Independent System Operator, Inc.

Description: 2014-08-13_SA 2673 Odell Wind-NSP Amended E&P Agreement (G826) to be effective 8/14/2014.

Filed Date: 8/13/14.

Accession Number: 20140813-5109.

Comments Due: 5 p.m. ET 9/3/14.

Docket Numbers: ER14-2655-000.

Applicants: Midcontinent Independent System Operator, Inc.

Description: 2014-08-14_SA 2684 GRE-MP Ortman T-T IA to be effective 8/14/2014.

Filed Date: 8/13/14.

Accession Number: 20140813-5132.

Comments Due: 5 p.m. ET 9/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 13, 2014.
Nathaniel J. Davis, Sr.,
Deputy Secretary.

[FR Doc. 2014-19857 Filed 8-20-14; 8:45 am]

BILLING CODE 6717-01-P